ENVIRONMENTAL PROTECTION AGENCY

40 CFR Part 52

[MO 165-1165; FRL-7401-5]

Approval and Promulgation of Implementation Plans; State of Kansas

AGENCY: Environmental Protection Agency (EPA).

ACTION: Proposed rule.

SUMMARY: EPA proposes to approve the State Implementation Plan (SIP) revision submitted by the state of Kansas for the purpose of controlling volatile organic compound (VOC) emissions from area sources in Johnson and Wyandotte Counties in the Kansas City, Kansas, area. This action also proposes to provide full approval of the revised maintenance plan and rescinds the prior conditional approval of the revised maintenance plan. In the final rules section of the Federal Register, EPA is approving the State's SIP revision and providing full approval of the revised maintenance plan as a direct final rule without prior proposal because the Agency views this as a noncontroversial revision/amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on an amendment, paragraph, or section of this rule and if that provision is severed from the remainder of the rule, EPA may adopt as final those provisions of the rule that are not the subject of an adverse comment.

DATES: Comments on this proposed action must be received in writing by November 29, 2002.

ADDRESSES: Comments may be mailed to Leland Daniels, Environmental Protection Agency, Air Planning and Development Branch, 901 North 5th Street, Kansas City, Kansas 66101.

FOR FURTHER INFORMATION CONTACT: Leland Daniels at (913) 551-7651.

SUPPLEMENTARY INFORMATION: See the information provided in the direct final rule which is located in the rules section of the Federal Register.

Dated: October 18, 2002.
William Rice,
Acting Regional Administrator, Region 7.

[FR Doc. 02-27493 Filed 10-29-02; 8:45 am]

BILLING CODE 6560-50-P